FEDERAL COMMUNICATIONS COMMISSION

47 CFR Part 73

[MB Docket No. 08-151, RM-11476, DA 10-1519]

Radio Broadcasting Services; Blythe, CA

AGENCY: Federal Communications Commission.

ACTION: Final rule.

SUMMARY: The Audio Division, at the request of Prescott Valley Radio Broadcasting Company, Inc., substitutes FM Channel 247B for Channel 239B at Blythe, California. Channel 247B can be allotted at Blythe, consistent with the minimum distance separation requirements of the Commission's rules, at coordinates 33-37-02 NL and 114-35-20 WL, with a site restriction of 1.0 km (.61 miles) northeast of the community. The Government of Mexico has conveyed its concurrence in the allotment of FM Channel 247B at Blythe, California. Concurrently with release of the Report and Order, petitioner's minor change application for FM Station KPKR (File No. BPH-20080418AAU) was granted, contingent on the receipt of Mexican concurrence in the operation of FM Channel 239C3 at Parker, Arizona. See SUPPLEMENTARY INFORMATION infra.

DATES: Effective September 30, 2010.

FOR FURTHER INFORMATION CONTACT: Deborah Dupont, Media Bureau, (202) 418-2180.

SUPPLEMENTARY INFORMATION: This is a synopsis of the Commission's Report and Order, MB Docket No. 08-151, adopted August 12, 2010, and released August 16, 2010. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW, Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). The Commission will send a copy of this Report and Order in a report to be sent to Congress and the Government Accountability Office pursuant to the Congressional Review Act, see U.S.C. 801(a)(1)(A).

List of Subjects in 47 CFR Part 73

Radio, Radio broadcasting.

Federal Communications Commission.
Deborah A. Dupont,
Senior Counsel, Allocations, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under California, is amended by removing Channel 239B and adding Channel 247B at Blythe.

[FR Doc. 2010-21560 Filed 8-27-10; 8:45 am]

BILLING CODE 6712-01-P